DEPARTMENT OF JUSTICE

[OMB Number 1140-0090]

Agency Information Collection Activities; Proposed eCollection eComments Requested; National Firearms Act (NFA)—Special Occupational Taxes (SOT)

AGENCY: Bureau of Alcohol, Tobacco, Firearms and Explosives, Department of Justice.

ACTION: 30-day notice.

SUMMARY: The Bureau of Alcohol, Tobacco, Firearms and Explosives (ATF), Department of Justice (DOJ), will be submitting the following information collection request to the Office of Management and Budget (OMB) for review and approval in accordance with the Paperwork Reduction Act of 1995. The proposed information collection was previously published in the Federal Register, on July 20, 2023, allowing a 60-day comment period.

DATES: Comments are encouraged and will be accepted for 30 days until November 1, 2023.

FOR FURTHER INFORMATION CONTACT: If you have comments especially on the estimated public burden or associated response time, suggestions, or need a copy of the proposed information collection instrument with instructions or additional information, please contact: Melissa Mason, either by mail at mailing address, or by email at NFAOMBCOMMENTS@ATF.GOV or telephone at 304-616-4500.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0090. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of this information collection:

1. Type of Information Collection: Revision of a previously approved collection.

2. Title of the Form/Collection: National Firearms Act (NFA)—Special Occupational Taxes (SOT).

3. Agency form number, if any, and the applicable component of the Department of Justice sponsoring the collection: ATF Form 5630.7.

Component: Bureau of Alcohol, Tobacco, Firearms and Explosives, U.S. Department of Justice.

4. Affected public who will be asked or required to respond, as well as a brief abstract:

Affected Public: Private Sector—businesses or other for-profit.

Abstract: ATF has been collecting Special Occupational Taxes (SOT) under the National Firearms Act (NFA) (Title 26, U.S.C. Chapter 53). Firearms dealers, manufacturers, and importers must pay this tax in order to conduct multiple transfers of specified weapons (such as machine guns) within the tax year. The Information Collection (IC) OMB 1140-0090 is being revised due to the removal of the previously corresponding ATF Forms 5630.5R and 5630.5RC. These forms will no longer be required going forward. ATF Form 5630.7 will be the only form necessary to fulfill the requirement for this IC.

5. Obligation To Respond: The obligation to respond is mandatory per title 26, U.S.C. 5801, chapter 53.

6. Total Estimated Number of Respondents: 16,659 respondents.

7. Estimated Time per Respondent: 15 minutes.

8. Frequency: Once annually.

9. Total Estimated Annual Time Burden: 4,164 hours.

10. Total Estimated Annual Other Costs Burden: The estimated cost for all 16,659 respondents to mail the SOT form (ATF Form 5630.7) is $.63 per person. Therefore the public cost associated with this IC is $10,495.

If additional information is required, contact: Darwin Arceo, Department Clearance Officer, Policy and Planning Staff, Justice Management Division, United States Department of Justice, Two Constitution Square, 145 N Street NE, 4W-218 Washington, DC 20530.

Dated: September 26, 2023.
Darwin Arceo,
Department Clearance Officer for PRA, U.S. Department of Justice.

[FR Doc. 2023-21585 Filed 9-29-23; 8:45 am]

BILLING CODE 4410-14-P